NATIONAL CREDIT UNION ADMINISTRATION

Sunshine Act; Notice of Meeting

Time and Date: 10 a.m., Thursday, November 18, 2004.

Place: Board Room, 7th Floor, Room 7047, 1775 Duke Street, Alexandria, VA 22314-3428.

Status: Open.

Matters to be Considered:

1. NCUA's Operating Budget for 2005/2006.

2. NCUA's Overhead Transfer Rate.

3. NCUA's Operating Fee Scale for 2005.

4. Proposed Rule: Section 701.21(e), (f), and (g) of NCUA's Rules and Regulations, Loans to Members and Lines of Credit to Members.

5. Final Rule: Parts 717 and 748 of NCUA's Rules and Regulations, Fair Credit Reporting—Disposal of Consumer Information.

Recess: 11:15 a.m.

Time and Date: 11:30 a.m., Thursday, November 18, 2004.

Place: Board Room, 7th Floor, Room 7047, 1775 Duke Street, Alexandria, VA 22314-3428.

Status: Closed.

Matters to be Considered:

1. Administrative Action under section 206 of the Federal Credit Union Act. Closed pursuant to Exemptions (8), (9)(A)(ii), and 9(B).

FOR FURTHER INFORMATION CONTACT: Mary Rupp, Secretary of the Board, telephone: 703-518-6304.

Mary Rupp,
Secretary of the Board.

[FR Doc. 04-25449 Filed 11-10-04; 4:06 pm]

BILLING CODE 7535-01-M